DEPARTMENT OF HEALTH AND HUMAN SERVICES

National Institutes of Health

Submission for OMB Review; Comment Request; Graduate Student Training Program Applications

Summary: Under the provisions of Section 3507(a)(1)(D) of the Paperwork Reduction Act of 1995, the Graduate Partnerships Program/OIR/OD/, the National Institutes of Health (NIH) has submitted to the Office of Management and Budget (OMB) a request for review and approval of the information collection listed below. This proposed information collection was previously published in the Federal Register on Monday, June 25, 2007/Vol. 72, No. 121/Pages 34692-34693 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Graduate Student Training Programs Application. Type of Information Collection Request: Revision. Need and Use of Information Collection: The information gathered in the Graduate Student Training Programs application will enable the identification and evaluation of graduate students interested in performing their dissertation research in the NIH Intramural Research Program laboratories (NIH-IRP). The GSTP application models graduate university applications by containing the sections that will aid in the NIH Admission Committee's evaluation of an applicant: Contact information, citizenship, education history and transcripts, standardized examination scores, research interests, personal statement research proposal, references and letters of recommendation, and partnership selection. Ethnicity and gender are additional optional information used to evaluate the GPP recruiting abilities and compliance with federal regulations. Feedback questions forwarded to interviewed applicants will assist in modifying interview day schedules and identification of factors used when deciding to accept or decline the admission offer. Frequency of Response: Once. Affected Public: Individuals. Type of Respondents: Students pursuing an advanced degree and wish to perform dissertation research in the NIH Intramural Research Program laboratories. The annual reporting burden is displayed in the following table:

A.12-1 Estimates of Annual Burden Hour
Type of respondents | Estimated number of respondents | Estimated number of responses per respondent | Average burden hours per response | Estimated total annual burden hours requested
Graduate Student Applicants On-Line 10 | 100 | 1 | 0.50 | 50
Post-baccalaureate Applicants On-Line | 500 | 1 | 0.50 | 250
Collection & Submission of Hardcopy Documents | 600 | 1 | 0.50 | 300
Recommendations (600 × 3) | 1800 | 1 | 0.25 | 450
Feedback Questions | 200 | 1 | 0.25 | 50
Totals | 3200 |  |  | 1100

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Dr. Patricia Wagner, Director of Admissions & Registrar, Graduate Partnerships Program, National Institutes of Health, 2 Center Drive: Building 2/2E06, Bethesda, Maryland 20892-0234, or call 301-594-9603 or E-mail your request, including your address to: wagnerpa@od.nih.gov.

Comments Due Date: Comments regarding this information collection are best assured of having their full effect if received within 30 days of the date of this publication.

Dated: September 27, 2007.
Michael M. Gottesman,
Deputy Director of Intramural Research, National Institutes of Health.

[FR Doc. E7-19975 Filed 10-9-07; 8:45 am]

BILLING CODE 4140-01-P